ENVIRONMENTAL PROTECTION AGENCY

[EPA-HQ-OPP-2023-0467; FRL-11410-01-OCSPP]

Pesticide Program Dialogue Committee; Notice of Public Meeting

AGENCY: Environmental Protection Agency (EPA).

ACTION: Notice.

SUMMARY: Pursuant to the Federal Advisory Committee Act, the Environmental Protection Agency's (EPA's) Office of Pesticide Programs is announcing a public meeting of the Pesticide Program Dialogue Committee (PPDC) on November 15 and 16, 2023. The meeting will be held in person and limited opportunities for virtual participation will be offered.

DATES: The meeting will be held on Wednesday, November 15 from approximately 9:30 a.m. to 5:00 p.m. and on Thursday, November 16, 2023, from approximately 9:00 a.m. to 3:00 p.m. Requests to participate in the meeting must be received on or before November 8, 2023.

To request accommodation of a disability, please contact the technical person listed under FOR FURTHER INFORMATON CONTACT, preferably at least 10 days prior to the meeting, to give EPA as much time as possible to process your request.

ADDRESSES: The meeting will be held at the U.S. Environmental Protection Agency Ruckelshaus Conference Center in the East West William Jefferson Clinton Building at 1201 Constitution Avenue NW, Washington, DC 20004.

Please visit https://www.epa.gov/pesticide-advisory-committees-and-regulatory-partners/pesticide-program-dialogue-committee-ppdc to find a link to register for the meeting.

FOR FURTHER INFORMATION CONTACT: Jeffrey Chang, telephone number: (202) 566-2213, email address: chang.jeffrey@epa.gov.

SUPPLEMENTARY INFORMATION:

I. General Information

A. Does this action apply to me?

You may be potentially affected by this action if you work in in agricultural settings or if you are concerned about implementation of the Federal Insecticide, Fungicide, and Rodenticide Act (FIFRA) (7 U.S.C. 136 et seq.); the Federal Food, Drug, and Cosmetic Act (FFDCA) (21 U.S.C. 301 et seq.); the Pesticide Registration Improvement Act (PRIA) (which amends FIFRA section 33); and the Endangered Species Act (ESA) (16 U.S.C. 1531 et seq.). Potentially affected entities may include but are not limited to: Agricultural workers and farmers; pesticide industry and trade associations; environmental, consumer, and farm worker groups; pesticide users and growers; animal rights groups; pest consultants; state, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2023-0467, is available online at https://www.regulations.gov. The docket will also be available in-person at the Office of Pesticide Programs Regulatory Public Docket (OPP Docket) in the EPA/DC, West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744.

For further information on EPA/DC services, docket contact information and the current status of the EPA/DC and Reading Room, please visit https://www.epa.gov/dockets.

II. Background

The PPDC is a federal advisory committee chartered under the Federal Advisory Committee Act (FACA), Public Law 92-463. EPA established the PPDC in September 1995 to provide policy advice, information and recommendations to the EPA Administrator through the Director of the Office of Pesticide Programs, Office of Chemical Safety and Pollution Prevention. The PPDC provides a public forum to discuss a wide variety of pesticide regulatory developments and reform initiatives, evolving public policy and program implementation issues associated with evaluating and risks from the use of pesticides.

III. How can I request to participate in this meeting?

Please visit https://www.epa.gov/pesticide-advisory-committees-and-regulatory-partners/pesticide-program-dialogue-committee-ppdc to find a link to register to attend the meeting in person.

Requests to make brief oral comments to the PPDC during the meeting should be submitted to the individual listed under FOR FURTHER INFORMATION CONTACT on or before noon on the date set in the DATES section.

Authority: 5 U.S.C. Appendix 2 et seq. and 7 U.S.C. 136 et seq.

Dated: September 26, 2023.
Edward Messina,
Director, Office of Pesticide Programs.

[FR Doc. 2023-21647 Filed 9-29-23; 8:45 am]

BILLING CODE 6560-50-P